NATIONAL AERONAUTICS AND SPACE ADMINISTRATION

[Notice (00-031]

NASA Advisory Council (NAC), Task Force on International Space Station Operational Readiness; Meeting

AGENCY: National Aeronautics and Space Administration.

ACTION: Notice of meeting change.

FEDERAL REGISTER CITATION OF PREVIOUS ANNOUNCEMENT: 65 FR 56, Notice Number 00-027, March 22, 2000.

PREVIOUSLY ANNOUNCED DATE AND ADDRESS OF MEETING: Wednesday, April 5, 2000, 12:00 p.m.-1:00 p.m. Eastern Standard Time; NASA Headquarters, 300 E Street, SW, Room 7W31, Washington, DC 20546.

CHANGES IN THE MEETING: Date changes to April 17, 2000; Time changed to 4:00 p.m.-5:00 p.m. Eastern Standard Time

FOR FURTHER INFORMATION CONTACT: Mr. Philip Cleary, Code IH, National Aeronautics and Space Administration, Washington, DC 20546-0001, 202/358-4461.

SUPPLEMENTARY INFORMATION: This meeting will be open to the public up to the seating capacity of the room. The agenda for the meeting is as follows:

—Review the readiness of the Shuttle (STS-101) Mission (International Space Station assembly flight 2A.2A)

It is imperative that the meeting be held on these dates to accommodate the scheduling priorities of the key participants. Visitors will be requested to sign a visitors register.

Dated: March 30, 2000.
Matthew M. Crouch,
Advisory Committee Management Officer, National Aeronautics and Space Administration.

[FR Doc. 00-8348 Filed 4-4-00; 8:45 am]

BILLING CODE 7510-01-U